DEPARTMENT OF AGRICULTURE

Forest Service

Baht Timber Sale Environmental Impact Statement

AGENCY: Forest Service, USDA.

ACTION: Revised Notice of Intent to prepare an Environmental Impact Statement.

SUMMARY: This NOI revises information supplied in the previously published Revised NOI published in the Federal Register Vol. 71, No. 23 (pages 5803-5804) on February 3, 2006. The Department of Agriculture, Forest Service, will prepare an Environmental Impact Statement (EIS) on a proposal to harvest timber in the Baht Timber Sale project area, Wrangell Ranger District, Tongass National Forest. The proposed action is to harvest an estimated 42 million board feet on approximately 1410 acres with about 11 miles of new road construction. The proposed action would harvest approximately 210 acres and construct about 1.3 miles of road in roadless area. A range of alternatives are being developed to respond to the significant issues and will include a no-action alternative. The Tongass Forest Supervisor will decide on whether or not to harvest timber from this area, and if so, how this timber would be harvested. The decision will be documented in a Record of Decision based on the information disclosed in the EIS and the goals, objectives and desired future conditions as stated in the Forest Plan.

DATES: Initial letters outlining the project timeline and public involvement opportunities was distributed in July, 2003 and February, 2006. Opportunities for comment are available throughout the process. Individuals interested in receiving a scoping package should contact us within 30 days of the publication of this NOI. Comments about this stage of the project will be most helpful if received by May 30, 2006. Additional opportunities for comment will be provided after release of the Draft EIS, which is anticipated in early summer, 2006.

ADDRESSES: Please send written comments to Wrangell Ranger District; Attn: Baht EIS, P.O. Box 51, Wrangell, AK 99929. Electronic comments can be e-mailed to comments-alaska-tongass-wrangell@fs.fed.us. Please include the word “Baht” in the subject line.

FOR FURTHER INFORMATION CONTACT: Mark Hummel, District Ranger, or Linda Christian, IDT Leader, Wrangell Ranger District, Tongass National Forest, P.O. Box 51, Wrangell, AK 99929, telephone (907) 874-2323.

SUPPLEMENTARY INFORMATION: The proposed action is to harvest an estimated 42 million board feet on approximately 1410 acres with about 11 miles of new road construction. The range of alternatives being developed to respond to the significant issues, besides no-action, will likely be between 15-45 million board feet of timber on an estimated 500-1500 acres in one or more timber sales.

The proposed action was originally developed not to enter roadless areas. However, recent GIS mapping updates showed that portions of harvest units in the proposed action are within roadless areas. Therefore, the proposed action would enter roadless areas. The proposed action would harvest about 40 acres in the West Zarembo roadless area and about 170 acres in the East Zarembo roadless area. The proposed action would construct about 1 mile of new road and 0.3 miles of temporary road in roadless areas.

Purpose and Need for Action: The purpose and need for the Baht Timber sale is to: (1) Contribute to the production of a sustained yield of timber and mix of other resource activities from the Tongass National Forest, consistent with Forest Plan Standards and Guidelines; (2) seek to provide a timber supply sufficient to meet the annual and planning cycle market demand for Tongass National Forest timber; (3) provide a diversity of opportunities for resource uses that contribute to the economies of Southeast Alaska; and (4) support a wide range of natural resource employment opportunities within Southeast Alaska's communities.

The proposed timber harvest is located within Tongass Forest Plan Value Comparison Units 456, 457, 458 and 459 on Zarembo Island, Alaska, Wrangell Ranger District of the Tongass National Forest. The sale is currently listed on the Tongass 5-year action plan to be sold in 2007. The repercussions of delaying the project planning process regarding road building and timber harvest, even for a relatively short period, can have a significant effect on the amount of timber available for sale on the Tongass over the next few years. The Baht Timber Sale Project is consistent with the 1997 Tongass Land Management Plan.

Public Participation: Public participation will be an integral component of the study process and will be especially important at several points during the analysis. The first is during the scoping process. The Forest Service will be seeking information, comments, and assistance from Tribal Governments, Federal, State, and local agencies, individuals and organizations that may be interested in, or affected by, the proposed activities. The scoping process will include: (1) Identification of potential issues; (2) identification of issues to be analyzed in depth; and (3) elimination of non-significant issues or those which have been covered by a previous environmental review. Written scoping comments are being solicited through a scoping package that will be sent to the project mailing list. For the Forest Service to best use the scoping input, comments should be received by May 30, 2006.

Preliminary Issues: Tentative issues identified for analysis in the EIS include the potential effects of the project on and the relationship of the project to: Old-growth ecosystem management and the maintenance of habitat for viable populations of wildlife species, timber sale economics, road construction/access management and water quality.

Draft Environmental Impact Statement: Based on results of scoping and the resource capabilities within the project area, alternatives including a “no action” alternative will be developed for the Draft Environmental Impact Statement (Draft EIS). The Draft EIS is projected to be filed with the Environmental Protection Agency (EPA) in May 2006. The Final EIS is anticipated by September 2006.

The comment on the draft environmental impact statement will be 45 days from the date the Environmental Protection Agency publishes the notice of availability in the Federal Register.

The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533, (1978). Environmental objections that could have been raised at the draft environmental impact statement stage may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns of the proposed action, comments during scoping and comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

Permits or Licenses Required: Permits required for implementation include the following:

1. U.S. Army Corps of Engineers

—Approvals of discharge of dredged or fill material into the waters of the United States under Section 404 of the Clean Water Act;

—Approval of the construction of structures or work in navigable waters of the United States under section 10 of the Rivers and Harbors Act of 1899;

2. Environmental Protection Agency

—National Pollutant Discharge Elimination System (402) Permit;

—Review Spill Prevention Control and Countermeasure Plan;

3. State of Alaska, Department of Natural Resources

—Tideland Permit and Lease or Easement;

4. State of Alaska, Department of Environmental Conservation

—Solid Waste Disposal Permit;

—Certification of Compliance with Alaska Water Quality Standards (401 Certification)

Responsible Official: The Forest Supervisor, Tongass National Forest, Federal Building, Ketchikan, Alaska 99901, is the responsible official. The responsible official will consider the comments, response, disclosure of environmental consequences, and applicable laws, regulations, and policies in making the decision and stating the rationale in the Record of Decision.

(Authority: 40 CFR 1501.7 and 1508.22; Forest Service Handbook 1909.15, Section 21)

Dated: May 7, 2006.
Forrest Cole,
Forest Supervisor.

[FR Doc. 06-4495 Filed 5-12-06; 8:45 am]

BILLING CODE 3410-11-M